DEPARTMENT OF COMMERCE

International Trade Administration

[Application No. 84-26A12]

Export Trade Certificate of Review

ACTION: Notice of issuance of an amended Export Trade Certificate of Review to the Northwest Fruit Exporters of Washington (“NFE”), Application No. (84-26A12).

SUMMARY: The Secretary of Commerce, through the Office of Trade and Economic Analysis (“OTEA”), issued an amended Export Trade Certificate of Review to NFE of California on March 21, 2016.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing title III are found at 15 CFR part 325 (2016).

OTEA is issuing this notice pursuant to 15 CFR 325.6(b), which requires the Secretary of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amended Certificate

NFE's Export Trade Certificate of Review has been amended to:

Description of Amendments to the Certificate

1. Under the heading Products, add “fresh pears.”

2. Under the heading Export Trade Activities and Methods of Operation, add “fresh pears” to the subtitles of sections 1 and 3.

3. Add coverage for Export Trade Activities and Methods of Operation relating to “fresh pears” for the following existing Members of the Certificate (within the meaning of section 325.2(l) of the regulations (15 CFR 325.2(l))):

Apple House Warehouse & Storage, Inc.

Blue Bird, Inc.

Blue Star Growers, Inc.

Borton & Sons, Inc.

Chelan Fruit Cooperative

Congdon Packing Co. L.L.C.

Conrad & Adams Fruit L.L.C.

Crane & Crane, Inc.

Diamond Fruit Growers Inc.

Gold Digger Apples, Inc.

Hansen Fruit & Cold Storage Co., Inc.

Highland Fruit Growers, Inc.

HoneyBear Growers, LLC

Matson Fruit Company

McDougall & Sons, Inc.

Stadelman Fruit, L.L.C.

Stemilt Growers, LLC

Strand Apples, Inc.

The Dalles Fruit Company, LLC

Valley Fruit III L.L.C.

4. Add the following new Members of the Certificate (within the meaning of section 325.2(l) of the regulations (15 CFR 325.2(l))), for Export Trade Activities and Methods of Operation relating to “fresh pears”:

Duckwall Fruit

Naumes, Inc.

Peshastin Hi-Up Growers

Underwood Fruit & Warehouse Co.

5. Add the following new Members of the Certificate for Export Trade Activities and Methods of Operation relating to apples:

Piepel Premium Fruit Packing LLC

Ron LeFore, d/b/a Ron LeFore Apple Farms

Western Traders LLC

6. Remove the following companies as Members of the Certificate: Blue Mountain Growers, Inc. (Milton-Freewater, OR), and Obert Cold Storage (Zillah, WA); and

7. Change the name of the following existing Members: The Apple House, Inc. (Brewster, WA) is now Apple House Warehouse & Storage, Inc. (Brewster, WA); C&M Fruit Packers (Yakima, WA) is now Columbia Fruit Packers/Airport Division (Yakima, WA); Domex Marketing (Yakima, WA) is now Domex Superfresh Growers LLC (Yakima, WA); and Stemilt Growers Inc. is now Stemilt Growers, LLC.

NFE's complete Membership covered by the amended Export Trade Certificate of Review is listed below:

1. Allan Bros., Naches, WA

2. AltaFresh L.L.C. dba Chelan Fresh Marketing, Chelan, WA

3. Apple House Warehouse & Storage, Inc., Brewster, WA

4. Apple King, L.L.C., Yakima, WA

5. Auvil Fruit Co., Inc., Orondo, WA

6. Baker Produce, Inc., Kennewick, WA

7. Blue Bird, Inc., Peshastin, WA

8. Blue Star Growers, Inc., Cashmere, WA

9. Borton & Sons, Inc., Yakima, WA

10. Brewster Heights Packing & Orchards, LP, Brewster, WA

11. Broetje Orchards LLC, Prescott, WA

12. C.M. Holtzinger Fruit Co., Inc., Yakima, WA

13. Chelan Fruit Cooperative, Chelan, WA

14. Chiawana, Inc. dba Columbia Reach Pack, Yakima, WA

15. Columbia Fruit Packers, Inc., Wenatchee, WA

16. Columbia Fruit Packers/Airport Division, Yakima, WA

17. Columbia Marketing International Corp., Wenatchee, WA

18. Columbia Valley Fruit, L.L.C., Yakima, WA

19. Congdon Packing Co. L.L.C., Yakima, WA

20. Conrad & Adams Fruit L.L.C., Grandview, WA

21. Cowiche Growers, Inc., Cowiche, WA

22. CPC International Apple Company, Tieton, WA

23. Crane & Crane, Inc., Brewster, WA

24. Custom Apple Packers, Inc., Brewster, Quincy, and Wenatchee, WA

25. Diamond Fruit Growers, Odell, OR

26. Domex Superfresh Growers LLC, Yakima, WA

27. Douglas Fruit Company, Inc., Pasco, WA

28. Dovex Export Company, Wenatchee, WA

29. Duckwall Fruit, Odell, OR

30. E. Brown & Sons, Inc., Milton-Freewater, OR

31. Evans Fruit Co., Inc., Yakima, WA

32. E.W. Brandt & Sons, Inc., Parker, WA

33. Frosty Packing Co., LLC, Yakima, WA

34. G&G Orchards, Inc., Yakima, WA

35. Garrett Ranches Packing, Wilder, ID

36. Gilbert Orchards, Inc., Yakima, WA

37. Gold Digger Apples, Inc., Oroville, WA

38. Hansen Fruit & Cold Storage Co., Inc., Yakima, WA

39. Henggeler Packing Co., Inc., Fruitland, ID

40. Highland Fruit Growers, Inc., Yakima, WA

41. HoneyBear Growers, Inc., (Brewster, WA)

42. Honey Bear Tree Fruit Co., LLC, Wenatchee, WA

43. Hood River Cherry Company, Hood River, OR

44. Ice Lakes LLC, E. Wenatchee, WA

45. JackAss Mt. Ranch, Pasco, WA

46. Jenks Bros Cold Storage Packing (Royal City, WA)

47. Kershaw Fruit & Cold Storage, Co., Yakima, WA

48. L&M Companies, Selah, WA

49. Larson Fruit Co., Selah, WA

50. Manson Growers Cooperative, Manson, WA

51. Matson Fruit Company, Selah, WA

52. McDougall & Sons, Inc., Wenatchee, WA

53. Monson Fruit Co.—Apple operations only, Selah, WA

54. Morgan's of Washington dba Double Diamond Fruit, Quincy, WA

55. Naumes, Inc., Medford, OR

56. Northern Fruit Company, Inc., Wenatchee, WA

57. Olympic Fruit Co., Moxee, WA

58. Oneonta Trading Corp., Wenatchee, WA

59. Orchard View Farms, Inc., The Dalles, OR

60. Pacific Coast Cherry Packers, LLC, Yakima, WA

61. Peshastin Hi-Up Growers, Peshastin, WA

62. Phillippi Fruit Company, Inc., Wenatchee, WA

63. Piepel Premium Fruit Packing, LLC, East Wenatchee, W

64. Polehn Farm's Inc., The Dalles, OR

65. Price Cold Storage & Packing Co., Inc., Yakima, WA

66. Pride Packing Company, Wapato, WA

67. Quincy Fresh Fruit Co., Quincy, WA

68. Rainier Fruit Company, Selah, WA

69. Roche Fruit, Ltd., Yakima, WA

70. Ron Lefore, d/b/a Ron Lefore Apple Farms, Milton-Freewater, OR

71. Sage Fruit Company, L.L.C., Yakima, WA

72. Smith & Nelson, Inc., Tonasket, WA

73. Stadelman Fruit, L.L.C., Milton-Freewater, OR, and Zillah, WA

74. Stemilt Growers, LLC, Wenatchee, WA

75. Strand Apples, Inc., Cowiche, WA

76. Symms Fruit Ranch, Inc., Caldwell, ID

77. The Dalles Fruit Company, LLC, Bingen, WA

78. Underwood Fruit & Warehouse Co., Dallesport, WA

79. Valicoff Fruit Co., Inc., Wapato, WA

80. Valley Fruit III L.L.C., Wapato, WA

81. Washington Cherry Growers, Peshastin, WA

82. Washington Fruit & Produce Co., Yakima, WA

83. Western Sweet Cherry Group, LLC, Yakima, WA

84. Western Traders, LLC, East Wenatchee, WA

85. Whitby Farms, Inc. dba: Farm Boy Fruit Snacks LLC, Mesa, WA

86. Yakima Fresh, Yakima, WA

87. Yakima Fruit & Cold Storage Co., Yakima, WA

88. Zirkle Fruit Company, Selah, WA

Dated: April 5, 2016.
Joseph E. Flynn,
Director, Office of Trade and Economic Analysis.

[FR Doc. 2016-08390 Filed 4-11-16; 8:45 am]

BILLING CODE 3510-DR-P